DEPARTMENT OF TRANSPORTATION

Office of the Secretary

Applications for Certificates of Public Convenience and Necessity and Foreign Air Carrier Permits Filed Under Subpart B (Formerly Subpart Q) During the Week Ending June 4, 2011

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2000-6796.

Date Filed: June 2, 2011.

Due Date for Answers, Conforming Applications, or Motion to Modify Scope: June 23, 2011.

Description: Application of Aerolineas Santo Domingo, S.A. (“ASD”) requesting renewal of its exemption and for a foreign air carrier permit, to conduct scheduled foreign air transportation of persons, property and mail between the Dominican Republic and United States. ASD also requests amendment of the exemption.

Docket Number: DOT-OST-2011-0106.

Date Filed: June 3, 2011.

Due Date for Answers, Conforming Applications, or Motion to Modify Scope: June 24, 2011.

Description: Application of Strategic Airlines Pty Ltd (“Strategic Airlines”) requesting the Department issue a foreign air carrier permit to enable Strategic Airlines, consistent with the open skies, U.S.-Australia Air Transport Agreement, to operate: (1) Scheduled foreign air transportation of persons, property, and mail from points behind Australia, via Australia and intermediate points, to a point or points in the United States, and beyond; (2) scheduled all-cargo services between any point or points in the United States and any point or points in any third country or countries; (3) charter foreign air transportation of persons, property, and mail between any point or points in Australia and any point or points in the United States, and between any point or points in the United States and any point or points in third countries provided that, except with respect to cargo charters, such services constitute part of a continuous operation that includes service at a point or points in Australia for the purpose of carrying local traffic between Australia and the United States; and (4) other charters. Strategic Airlines also requests: (1) Exemption authority, to the extent necessary and for an initial period of two years or until the requested permit is issued, to enable it to hold out and provide the service described above; and (2) such additional or other relief as the Department may deem necessary or appropriate.

Renee V. Wright,
Program Manager, Docket Operations Federal Register Liaison .

[FR Doc. 2011-16269 Filed 6-28-11; 8:45 am]

BILLING CODE 4910-9X-P